DEPARTMENT OF ENERGY

Federal Energy Regulatory Commission

[Docket No. EL14-99-000]

ISO New England Inc.; Notice of Initiation of Proceeding and Refund Effective Date

On September 16, 2014, the Commission issued an Order to Show Cause in Docket No. EL14-99-000, initiating a proceeding pursuant to section 206 of the Federal Power Act (FPA), 16 U.S.C. 824e (2012), directing ISO New England Inc. to either submit Tariff revisions providing for the review and potential mitigation of importers' offers prior to each annual Forward Capacity Auction or show cause why it should not be required to do so. ISO New England Inc., 148 FERC ¶ 61,201 (2014).

The refund effective date in Docket No. EL14-99-000, established pursuant to section 206(b) of the FPA, will be the date of publication of this notice in the Federal Register.

Dated: September 17, 2014.
Kimberly D. Bose,
Secretary.

[FR Doc. 2014-22647 Filed 9-23-14; 8:45 am]

BILLING CODE 6717-01-P